FEDERAL COMMUNICATIONS COMMISSION

[WT Docket No. 99-168; DA 00-397]

Notice

AGENCY: Federal Communications Commission.

ACTION: Notice.

SUMMARY: This document invites oppositions to petitions for reconsideration of the First Report and Order in this proceeding, which established service rules for the auction of spectrum on the 700 MHz bands, and replies to the oppositions. The accelerated schedule for opposition and reply comments to these petitions for reconsideration is necessary to expedite resolution of issues affecting the auction beginning May 10, 2000.

DATES: Submit oppositions on or before March 10, 2000, submit reply on or before March 17, 2000.

ADDRESSES: Send oppositions and replies to the Office of the Secretary, Federal Communications Commission, Washington, DC 20554. Oppositions and replies may be sent as an electronic file via the Internet to http://www.fcc.gov/e-file/ecfs.html, or by e-mail to ecfs@fcc.gov.

FOR FURTHER INFORMATION CONTACT: Stan Wiggins, 202-418-1310.

SUPPLEMENTARY INFORMATION: 1. Notice is hereby given that the parties listed below have petitioned the Commission for reconsideration of the First Report and Order in WT Docket No. 99-168. (65 FR 3139, January 20,2000.) The First Report and Order established service rules for the auction of spectrum on the 700 MHz bands, that is scheduled to commence May 10, 2000. The auction schedule in turn reflects the Congressional mandate that receipts from auctioning this spectrum be deposited into the U.S. Treasury by September 30, 2000. (See Public Law. 106-113, 113 Stat. 1501, Appendix E, Section 213. See also 145 Cong. Rec. at H12494, H12501 ((Nov. 17, 1999)), “Making consolidated appropriations for the fiscal year ending September 30, 2000, and for other purposes.”)

2. In light of the auction schedule necessary to implement the Congressional mandate, and the separate statutory requirement that interested parties have a sufficient time after issuance of bidding rules “to develop business plans, assess market conditions, and evaluate the availability of equipment for the relevant services” (See 47 U.S.C. 309(j)(3)(E)(ii). the Wireless Telecommunications Bureau has determined that good cause exists in this instance to alter the periods specified in § 1.429 of the Commission's Rules for oppositions and replies to petitions for reconsideration. (See 47 CFR 0.331 ((authority delegated to Wireless Telecommunications Bureau)); 47 CFR 1.3 ((suspension, amendment, and waiver of Commission Rules)). See also 5 U.S.C. 553((b))((B).)The bidding rules for the auction have been announced. Auction of Licenses in the 747-762 and 777-792 MHz Bands, Auction Notice and Filing Requirements for 12 Licenses in the 700 MHz Bands, Auction Scheduled for May 10, 2000, DA 00-292 ((Feb. 18, 2000)).

3. Preliminary review of the petitions indicates they raise certain issues that potentially affect petitioners' decision whether to participate in the auction. To preserve the possibility of considering and resolving such issues sufficiently in advance of the auction to provide timely guidance to prospective bidders, we must close the record on reconsideration issues on an expedited schedule. Accordingly, oppositions to petitions for reconsideration of the First Report and Order shall be filed no later than March 10, 2000, and replies shall be filed no later than March 17, 2000.

4. The list of petitions reflects Commission records as of February 23, 2000. Any petitions subsequently posted on the ECFS system, or received in paper form, that were timely filed will be subject to the filing schedule for oppositions and replies adopted herein.

Procedural Matters

5. Parties submitting oppositions and replies should address the petitions for reconsideration in light of the requirements of 47 U.S.C. 309, 47 CFR 1.429 and any other public interest considerations. All oppositions and replies should reference the docket number of this proceeding, WT 99-168.

6. This proceeding has been designated as a “permit-but-disclose” proceeding in accordance with the Commission's ex parte rules. 47 CFR 1.1200(a) and 1.1206. Persons making oral ex parte presentations are reminded that memoranda summarizing the presentations must contain summaries of the substance of the presentations and not merely a listing of the subjects discussed. More than a one or two sentence description of the views and arguments presented is generally required. See 47 CFR 1.1206(b). Other rules pertaining to oral and written ex parte presentations in permit-but-disclose proceedings are set forth in § 1.1206(b) of the Commission's rules, 47 CFR 1.1206(b).

7. Parties may obtain the First Report and Order and petitions for reconsideration at the FCC website, http://www.fcc.gov/e-file/ecfs.html. The petitions are also available for public inspection and copying in the Reference Center, Room CY A257, 445 12th St., SW, Washington, DC 20554. Copies of the petitions are also available from ITS at 1231 20th St. NW, Washington, DC 20036, or by calling (202) 857-3800.

8. Oppositions to petitions for reconsideration, and replies, may be filed using the Commission's Electronic Comment Filing System (ECFS) or by filing paper copies. Oppositions and replies filed through the ECFS can be sent as an electronic file via the Internet to http://www.fcc.gov/e-file/ecfs.html. Generally, only one copy of an electronic submission must be filed. In completing the transmittal screen, parties should include their full name, Postal Service mailing address, and the applicable docket or rulemaking number. Parties may also submit an electronic opposition or reply by Internet e-mail. To get filing instructions for e-mail filings, parties should send an e-mail to ecfs@fcc.gov, including “get form <your e-mail address> in the body of the message. A sample form and directions will be sent in reply.

9. Interested parties who choose to file by paper must file an original and four copies of their filings with the Office of the Secretary, Federal Communications Commission, TW B204, 445 12th St. SW Washington, DC 20554. In addition, parties should send two copies to Stan Wiggins, Policy Division, Wireless Telecommunications Bureau, Federal Communications Commission, 445 12th St. SW Washington, DC 20554, and one copy to ITS, at 1231 20th Street, NW, Washington, DC 20036.

Parties Filing Petitions for Reconsideration in WT Docket 99-168

Adaptive Broadband Corporation (Feb. 22, 2000)

ArrayComm, Inc. (Feb. 22, 2000)

Association of Local Television Stations, Inc. (Feb. 22, 2000)

Association of Public-Safety Communications Officials-International, Inc. (Feb. 22, 2000)

Association for Maximum Service Television, Inc. (Feb. 22, 2000)

National Association of Broadcasters (Feb. 22, 2000)

Nelson Repeater Services, Inc. (Feb. 22, 2000)

Northcoast Communications, LLC (Feb. 7, 2000)

Rand McNally & Company (Feb. 22, 2000)

TRW Inc. (Feb. 11, 2000)

U.S. GPS Industry Council (Feb. 22, 2000)

US WEST Wireless, LLC (Feb. 3, 2000)

Federal Communications Commission.
Kris A. Monteith,
Chief, Policy Division, Wireless Telecommunications Bureau.

[FR Doc. 00-4927 Filed 2-29-00; 8:45 am]

BILLING CODE 6712-01-P